DEPARTMENT OF DEFENSE

Department of the Navy

Notice of Intent To Grant Exclusive Patent License; Taoglas USA, Inc.

AGENCY: Department of the Navy, DOD.

ACTION: Notice.

SUMMARY: The Department of the Navy hereby gives notice of its intent to grant an exclusive license to Taoglas USA, Inc. of San Diego, CA. The proposed license is a revocable, nonassignable, exclusive license to practice the invention embodied in U.S. Pat. App. Ser. No. 15/267,219: BROADBAND CIRCULARLY POLARIZED ANTENNA in the fields of use of automotive and Internet of Things (IoT) throughout the United States, the District of Columbia, the Commonwealth of Puerto Rico, and all other United States territories and possessions. The Secretary of the Navy has an ownership interest in this invention.

DATES: Anyone wishing to object to the grant of this license has fifteen (15) days from the date of this notice to file written objections along with supporting evidence, if any.

ADDRESSES: Written objections are to be filed with the Naval Undersea Warfare Center Division, Newport, 1176 Howell St., Bldg. 102T, Code 00T2, Newport, RI 02841.

FOR FURTHER INFORMATION CONTACT: Dr. Theresa A. Baus, Head, Technology Partnerships Office, Naval Undersea Warfare Center Division, Newport, 1176 Howell St., Bldg. 102T, Code 00T2, Newport, RI 02841, telephone 401-832-8728, or Email Theresa.baus@navy.mil.

Authority: 35 U.S.C. 207, 37 CFR part 404

Dated: October 17, 2017.
A.M. Nichols,
Lieutenant Commander, Judge Advocate General's Corps, U.S. Navy, Federal Register Liaison Officer.

[FR Doc. 2017-23009 Filed 10-23-17; 8:45 am]

BILLING CODE 3810-FF-P